FEDERAL MARITIME COMMISSION

Ocean Transportation Intermediary License Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 3489F.

Name: McClellan, Lavone W. dba Acts Custom Brokers.

Address: 1386 Salford, Houston, TX 77032.

Date Revoked: October 28, 2011.

Reason: Failed to maintain a valid bond.

License Number: 018794N.

Name: Besco Shippers, Inc.

Address: 1543 Hook Road, Bldg A., Folcroft, PA 19032.

Date Revoked: October 26, 2011.

Reason: Failed to maintain a valid bond.

License Number: 021512F.

Name: LDC Import & Export Inc.

Address: 201 East Army Trail Road, Bloomingdale, IL 60108.

Date Revoked: October 27, 2011.

Reason: Failed to maintain a valid bond.

License Number: 022242N.

Name: Byasa Logistics LLC.

Address: 800 South Azusa Avenue, Suite 2-D, Azusa, CA 91702.

Date Revoked: October 28, 2011.

Reason: Failed to maintain a valid bond.

Sandra L. Kusumoto,
Director, Bureau of Certification and Licensing.

[FR Doc. 2011-30244 Filed 11-22-11; 8:45 am]

BILLING CODE 6730-01-P